FEDERAL ELECTION COMMISSION

Sunshine Act Meeting

TIME AND DATE: Tuesday, January 12, 2021 at 10:00 a.m. and its continuation on January 14, 2021 at 10:00 a.m.

PLACE: 1050 First Street, NE, Washington, DC (This meeting will be a virtual meeting).

STATUS: This meeting will be closed to the public.

MATTERS TO BE CONSIDERED: Compliance matters pursuant to 52 U.S.C. 30109.

Matters concerning participation in civil actions or proceedings or arbitration.

* * * * *

CONTACT PERSON FOR MORE INFORMATION: Judith Ingram, Press Officer, Telephone: (202) 694-1220.

Laura E. Sinram,
Acting Secretary and Clerk of the Commission.

[FR Doc. 2021-00191 Filed 1-5-21; 4:15 pm]

BILLING CODE 6715-01-P